DEPARTMENT OF ENERGY

Federal Energy Regulatory Commission

Combined Notice of Filings #1

Take notice that the Commission received the following electric corporate filings:

Docket Numbers: EC11-51-000.

Applicants: Capital Power Investments LLC, LS Power Equity Partners II, L.P., LS Power Equity Partners II Pie A, L.P., LS Power Equity Partners II Pie B, L.P., LS Power Partners II, L.P., Bridgeport Energy, LLC.

Description: Application of LS Power Partners II, L.P., et al. for Order Under section 203 of the Federal Power Act and Requests for Confidential Treatment, Limited Waivers, and 21 Day Comment Period.

Filed Date: 03/16/2011.

Accession Number: 20110316-5145.

Comment Date: 5 p.m. Eastern Time on Wednesday, April 06, 2011.

Take notice that the Commission received the following exempt wholesale generator filings:

Docket Numbers: EG11-70-000.

Applicants: Lively Grove Energy Partners, LLC.

Description: Self-Certification of EG or FC of Lively Grove Energy Partners, LLC.

Filed Date: 03/16/2011.

Accession Number: 20110316-5128.

Comment Date: 5 p.m. Eastern Time on Wednesday, April 06, 2011.

Take notice that the Commission received the following electric rate filings:

Docket Numbers: ER10-2748-002.

Applicants: Entergy Arkansas, Inc.

Description: Entergy Arkansas, Inc. submits tariff filing per 35: ICT Extension Compliance Filing to be effective 11/17/2010.

Filed Date: 03/16/2011.

Accession Number: 20110316-5038.

Comment Date: 5 p.m. Eastern Time on Wednesday, April 06, 2011.

Docket Numbers: ER11-2127-002.

Applicants: Terra-Gen Dixie Valley, LLC.

Description: Terra-Gen Dixie Valley, LLC submits tariff filing per 35: Open Access Transmission Tariff to be effective 5/14/2011.

Filed Date: 03/16/2011.

Accession Number: 20110316-5000.

Comment Date: 5 p.m. Eastern Time on Wednesday, April 06, 2011.

Docket Numbers: ER11-2334-008.

Applicants: Midwest Independent Transmission System Operator, Inc.

Description: Midwest Independent Transmission System Operator, Inc. submits tariff filing per 35.17(b): ATC Notice of Succession Amendment I to be effective 2/9/2011.

Filed Date: 03/14/2011.

Accession Number: 20110314-5297.

Comment Date: 5 p.m. Eastern Time on Monday, April 04, 2011.

Docket Numbers: ER11-2700-003.

Applicants: Midwest Independent Transmission System Operator, Inc.

Description: Midwest Independent Transmission System Operator, Inc. submits tariff filing per 35.17(b): 03-16-11 CMMPA Amendment to be effective 7/28/2010.

Filed Date: 03/16/2011.

Accession Number: 20110316-5138.

Comment Date: 5 p.m. Eastern Time on Wednesday, April 06, 2011.

Docket Numbers: ER11-2825-001.

Applicants: GBC Metals LLC.

Description: GBC Metals LLC submits tariff filing per 35.17(b): GBC_Metals_MBRA Amendment to be effective 4/1/2011.

Filed Date: 03/17/2011.

Accession Number: 20110317-5039.

Comment Date: 5 p.m. Eastern Time on Thursday, March 31, 2011.

Docket Numbers: ER11-2844-001.

Applicants: Adagio Energy LLC.

Description: Adagio Energy LLC submits tariff filing per 35: Baseline 714 compliance to be effective 4/4/2011.

Filed Date: 03/16/2011.

Accession Number: 20110316-5049.

Comment Date: 5 p.m. Eastern Time on Wednesday, April 06, 2011.

Docket Numbers: ER11-2844-001.

Applicants: Adagio Energy LLC.

Description: Amendment to Application of Adagio Energy LLC.

Filed Date: 03/16/2011.

Accession Number: 20110316-5109.

Comment Date: 5 p.m. Eastern Time on Wednesday, April 06, 2011.

Docket Numbers: ER11-3100-000.

Applicants: Wisconsin Public Service Corporation.

Description: Wisconsin Public Service Corporation submits tariff filing per 35.13(a)(2)(iii: Annual PEB/PBOP Filing of Wisconsin Public Service Corporation to be effective 4/1/2011.

Filed Date: 03/16/2011.

Accession Number: 20110316-5029.

Comment Date: 5 p.m. Eastern Time on Wednesday, April 06, 2011.

Docket Numbers: ER11-3101-000.

Applicants: Southwest Power Pool, Inc.

Description: Southwest Power Pool, Inc. submits tariff filing per 35.13(a)(2)(iii: Revisions to Attachment C—Methodology to Access Available Transfer Capability to be effective 5/16/2011.

Filed Date: 03/16/2011.

Accession Number: 20110316-5030.

Comment Date: 5 p.m. Eastern Time on Wednesday, April 06, 2011.

Docket Numbers: ER11-3102-000.

Applicants: Alabama Power Company.

Description: Alabama Power Company submits tariff filing per 35.13(a)(2)(iii: JEA UPS Amendment & Compliance under Docket No. ER11-2477 to be effective 9/24/2010.

Filed Date: 03/16/2011.

Accession Number: 20110316-5033.

Comment Date: 5 p.m. Eastern Time on Wednesday, April 06, 2011.

Docket Numbers: ER11-3103-000.

Applicants: Georgia Power Company.

Description: Georgia Power Company submits tariff filing per 35.13(a)(2)(iii: JEA UPS Amendment & Compliance Under Docket No. ER11-2477 to be effective 9/24/2010.

Filed Date: 03/16/2011.

Accession Number: 20110316-5034.

Comment Date: 5 p.m. Eastern Time on Wednesday, April 06, 2011.

Docket Numbers: ER11-3104-000.

Applicants: Gulf Power Company.

Description: Gulf Power Company submits tariff filing per 35.13(a)(2)(iii: JEA UPS Amendment & Compliance Under Docket No. ER11-2477 to be effective 9/24/2010.

Filed Date: 03/16/2011.

Accession Number: 20110316-5035.

Comment Date: 5 p.m. Eastern Time on Wednesday, April 06, 2011.

Docket Numbers: ER11-3105-000.

Applicants: Mississippi Power Company.

Description: Mississippi Power Company submits tariff filing per 35.13(a)(2)(iii: JEA UPS Amendment & Compliance Under Docket No. ER11-2477 to be effective 9/24/2010.

Filed Date: 03/16/2011.

Accession Number: 20110316-5036.

Comment Date: 5 p.m. Eastern Time on Wednesday, April 06, 2011.

Docket Numbers: ER11-3106-000.

Applicants: PJM Interconnection, L.L.C.

Description: PJM Interconnection, L.L.C. submits tariff filing per 35.13(a)(2)(iii: Amendments to Schedule 12-Appendix per PJM Board Approval of Cost Allocations to be effective 4/4/2011.

Filed Date: 03/16/2011.

Accession Number: 20110316-5053.

Comment Date: 5 p.m. Eastern Time on Friday, April 15, 2011.

Docket Numbers: ER11-3107-000.

Applicants: Alabama Power Company.

Description: Alabama Power Company submits tariff filing per 35.13(a)(2)(iii: FPC UPS Amendment & Compliance under Docket No. ER11-2477 to be effective 9/24/2010.

Filed Date: 03/16/2011.

Accession Number: 20110316-5068.

Comment Date: 5 p.m. Eastern Time on Wednesday, April 06, 2011.

Docket Numbers: ER11-3108-000.

Applicants: Innovative Energy Systems, LLC.

Description: Innovative Energy Systems, LLC submits tariff filing per 35.13(a)(2)(iii: Innovative Energy Systems MBR Tariff to be effective 3/17/2011.

Filed Date: 03/16/2011.

Accession Number: 20110316-5069.

Comment Date: 5 p.m. Eastern Time on Wednesday, April 06, 2011.

Docket Numbers: ER11-3109-000.

Applicants: Seneca Energy, II LLC.

Description: Seneca Energy, II LLC submits tariff filing per 35.13(a)(2)(iii: Seneca Energy II MBR Tariff to be effective 3/17/2011.

Filed Date: 03/16/2011.

Accession Number: 20110316-5070.

Comment Date: 5 p.m. Eastern Time on Wednesday, April 06, 2011.

Docket Numbers: ER11-3110-000.

Applicants: Crete Energy Venture, LLC.

Description: Crete Energy Venture, LLC submits tariff filing per 35.13(a)(2)(iii: Crete Energy Venture, LLC Reactive Service Rate Schedule to be effective 4/1/2011.

Filed Date: 03/16/2011.

Accession Number: 20110316-5071.

Comment Date: 5 p.m. Eastern Time on Wednesday, April 06, 2011.

Docket Numbers: ER11-3111-000.

Applicants: Orange and Rockland Utilities, Inc.

Description: Orange and Rockland Utilities, Inc. submits tariff filing per 35: Technical re-filing to be effective 6/10/2010.

Filed Date: 03/16/2011.

Accession Number: 20110316-5081.

Comment Date: 5 p.m. Eastern Time on Wednesday, April 06, 2011.

Docket Numbers: ER11-3112-000.

Applicants: Garland Power Company.

Description: Garland Power Company submits tariff filing per 35.1: Garland Power FERC Electric Tariff to be effective 12/10/2010.

Filed Date: 03/16/2011.

Accession Number: 20110316-5087.

Comment Date: 5 p.m. Eastern Time on Wednesday, April 06, 2011.

Docket Numbers: ER11-3113-000.

Applicants: Georgia Power Company.

Description: Georgia Power Company submits tariff filing per 35.13(a)(2)(iii: FPC UPS Amendment & Compliance Under Docket No. ER11-2477 to be effective 9/24/2010.

Filed Date: 03/16/2011.

Accession Number: 20110316-5088.

Comment Date: 5 p.m. Eastern Time on Wednesday, April 06, 2011.

Docket Numbers: ER11-3114-000.

Applicants: Gulf Power Company.

Description: Gulf Power Company submits tariff filing per 35.13(a)(2)(iii: FPC UPS Amendment & Compliance Under Docket No. ER11-2477 to be effective 9/24/2010.

Filed Date: 03/16/2011.

Accession Number: 20110316-5089.

Comment Date: 5 p.m. Eastern Time on Wednesday, April 06, 2011.

Docket Numbers: ER11-3115-000.

Applicants: Mississippi Power Company.

Description: Mississippi Power Company submits tariff filing per 35.13(a)(2)(iii: FPC UPS Amendment & Compliance Under Docket No. ER11-2477 to be effective 9/24/2010.

Filed Date: 03/16/2011.

Accession Number: 20110316-5090.

Comment Date: 5 p.m. Eastern Time on Wednesday, April 06, 2011.

Docket Numbers: ER11-3116-000.

Applicants: PJM Interconnection, L.L.C., Delmarva Power & Light Company.

Description: PJM Interconnection, L.L.C. submits tariff filing per 35.13(a)(2)(iii: IMOA between Delmarva & City of Newark, Service Agreement 2771 to be effective 5/15/2011.

Filed Date: 03/16/2011.

Accession Number: 20110316-5097.

Comment Date: 5 p.m. Eastern Time on Wednesday, April 06, 2011.

Docket Numbers: ER11-3117-000.

Applicants: Lively Grove Energy Partners, LLC.

Description: Lively Grove Energy Partners, LLC submits tariff filing per 35.12: Market-Based Rate Application to be effective 5/31/2011.

Filed Date: 03/16/2011.

Accession Number: 20110316-5102.

Comment Date: 5 p.m. Eastern Time on Wednesday, April 06, 2011.

Docket Numbers: ER11-3118-000.

Applicants: Midwest Independent Transmission System Operator, Inc.

Description: Midwest Independent Transmission System Operator, Inc. submits tariff filing per 35.13(a)(2)(iii: ITC-NEMO IA to be effective 3/17/2011.

Filed Date: 03/16/2011.

Accession Number: 20110316-5110.

Comment Date: 5 p.m. Eastern Time on Wednesday, April 06, 2011.

Docket Numbers: ER11-3120-000.

Applicants: Genon Power Midwest, LP.

Description: Genon Power Midwest, LP submits tariff filing per 35.13(a)(2)(iii: Amendment of Rate Schedule to Transfer Reactive Power Revenue Requirement to be effective 6/1/2011.

Filed Date: 03/16/2011.

Accession Number: 20110316-5116.

Comment Date: 5 p.m. Eastern Time on Wednesday, April 06, 2011.

Docket Numbers: ER11-3121-000.

Applicants: Alabama Power Company.

Description: Alabama Power Company submits tariff filng per 35.13(a)(2)(iii: FPL UPS Amendment & Compliance Under Docket No. ER11-2477 to be effective 9/24/2010.

Filed Date: 03/16/2011.

Accession Number: 20110316-5117.

Comment Date: 5 p.m. Eastern Time on Wednesday, April 06, 2011.

Docket Numbers: ER11-3122-000.

Applicants: Georgia Power Company.

Description: Georgia Power Company submits tariff filing per 35.13(a)(2)(iii: FPL UPS Amendment & Compliance Under Docket No. ER11-2477 to be effective 9/24/2010.

Filed Date: 03/16/2011.

Accession Number: 20110316-5118.

Comment Date: 5 p.m. Eastern Time on Wednesday, April 06, 2011.

Docket Numbers: ER11-3123-000.

Applicants: Gulf Power Company.

Description: Gulf Power Company submits tariff filing per 35.13(a)(2)(iii: FPL UPS Amendment & Compliance Under Docket No. ER11-2477 to be effective 9/24/2010.

Filed Date: 03/16/2011.

Accession Number: 20110316-5124.

Comment Date: 5 p.m. Eastern Time on Wednesday, April 06, 2011.

Docket Numbers: ER11-3124-000.

Applicants: Mississippi Power Company.

Description: Mississippi Power Company submits tariff filing per 35.13(a)(2)(iii: FPL Amendment & Compliance Under Docket No. ER11-2477 to be effective 9/24/2010.

Filed Date: 03/16/2011.

Accession Number: 20110316-5127.

Comment Date: 5 p.m. Eastern Time on Wednesday, April 06, 2011.

Docket Numbers: ER11-3125-000.

Applicants: Old Dominion Electric Cooperative.

Description: Old Dominion Electric Cooperative submits tariff filing per 35.37: MBR Triennial Filing to be effective 9/13/2010.

Filed Date: 03/16/2011.

Accession Number: 20110316-5142.

Comment Date: 5 p.m. Eastern Time on Wednesday, April 06, 2011.

Docket Numbers: ER11-3129-000.

Applicants: Tampa Electric Company.

Description: Notice of Cancellation of Service Schedule J under three individual bilateral interchange contracts of Tampa Electric Company.

Filed Date: 03/17/2011.

Accession Number: 20110317-5047.

Comment Date: 5 p.m. Eastern Time on Thursday, April 07, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: March 17, 2011.
Nathaniel J. Davis, Sr.,
Deputy Secretary.

[FR Doc. 2011-6920 Filed 3-23-11; 8:45 am]

BILLING CODE 6717-01-P